DEPARTMENT OF ENERGY

Federal Energy Regulatory Commission

[Docket No. PL21-3-000]

Technical Conference on Greenhouse Gas Mitigation: Natural Gas Act Sections 3 and 7 Authorizations; Notice Inviting Technical Conference Comments

On November 19, 2021, the Federal Energy Regulatory Commission (Commission) will convene a Commission staff-led technical conference to discuss methods natural gas companies may use to mitigate the effects of direct and indirect greenhouse gas emissions resulting from Natural Gas Act sections 3 and 7 authorizations.

All interested persons are invited to file post-technical conference comments to address issues raised during the technical conference and identified in the Supplemental Notices of Technical Conference issued on October 1, 2021, and November 9, 2021. For reference, the questions included in the Supplemental Notices are included below. Commenters need not answer all of the questions but are encouraged to organize responses using the numbering and order in the questions below. Commenters are also invited to reference material previously filed in this docket but are encouraged to avoid repetition or replication of previous material. Comments are due on Tuesday, December 14, 2021.

Comments may be filed electronically via the internet.¹ Instructions are available on the Commission's website http://www.ferc.gov/docs-filing/efiling.asp. For assistance, please contact FERC Online Support at FERCOnlineSupport@ferc.gov or toll free at 1-866-208-3676, or for TTY, (202) 502-8659.

¹ See 18 CFR 385.2001(a)(1)(iii) (2020).

For more information about this notice, please contact GHGTechConf@ferc.gov.

Dated: November 16, 2021.
Debbie-Anne A. Reese,
Deputy Secretary.

Post-Technical Conference Questions for Comment

1. The Level of Mitigation for a Proposed Project's Reasonably Foreseeable Greenhouse Gas Emissions

a. When determining the amount of reasonably foreseeable GHG emissions associated with a proposed project, how could the Commission consider: Project utilization projections; State or regional natural gas usage projections from Public Utility Commissions or other entities; individual emissions data for industrial or electric generation customers; known netting effects from displacement of higher or lower emitting sources, including displacement that may occur over the life of the project; or other factors?

b. What is the appropriate level of mitigation associated with GHG emissions for a proposed project? Should the Commission determine the amount of mitigation required on a case-by-case basis or should the mitigation levels be set at zero, less than significant, or some other level?

2. Types of Mitigation

a. What types of physical mitigation associated with GHG emissions are project sponsors currently using at their facilities? What types of physical mitigation associated with GHG emissions project sponsors are currently available to project sponsors? Are there limitations to physical mitigation measures?

b. What types of market-based mitigation associated with GHG emissions are project sponsors currently using? What types of alternative or market-based mitigation associated with GHG emissions project sponsors are currently available to project sponsors?

c. Are market-based mitigation measures effective and verifiable methods of mitigation over the life of a project? What effects would this type of mitigation from Commission-jurisdictional projects have on offset, REC, and GHG compliance markets?

d. Should project applicants submit mitigation proposals with their project application? How soon might current project applicants be able to supplement the record or respond to a Commission data request with their mitigation proposal?

e. What factors should the Commission consider in evaluating the sufficiency of a mitigation proposal?

3. Compliance and Cost Recovery of Mitigation

a. How could the Commission ensure continued verification and accounting of GHG mitigation measures since the Commission would need to monitor and assess mitigation during the life of the project?

b. Are there federal or state agencies which currently monitor compliance of GHG mitigation measures? Should the Commission explore potential interagency agreements or memorandums of understanding with other federal agencies to monitor compliance of GHG mitigation measures?

c. How could the Commission allow project sponsors to recover the costs of market-based mitigation measures, such as the purchase of offsets? Would allowing recovery of such costs through an annual tracker or surcharge be appropriate?

[FR Doc. 2021-25403 Filed 11-19-21; 8:45 am]

BILLING CODE 6717-01-P